ENVIRONMENTAL PROTECTION AGENCY

[EPA-HQ-OPPT-2025-3955; FRL-13210-01-OCSPP]

Agency Information Collection Activities; Proposed Renewal Collection and Request for Comment; Confidential Business Information Claims Under the Toxic Substances Control Act (TSCA)

AGENCY: Environmental Protection Agency (EPA).

ACTION: Notice.

SUMMARY: In compliance with the Paperwork Reduction Act (PRA), this document announces the availability of and solicits public comment on the following Information Collection Request (ICR) that EPA is planning to submit to the Office of Management and Budget (OMB): Confidential Business Information Claims under the Toxic Substances Control Act (TSCA) (EPA ICR No. 2706.04 and OMB Control No. 2070-0223). This ICR represents a renewal of an existing ICR that is currently approved through August 31, 2026. Before submitting the ICR to OMB for review and approval under the PRA, EPA is soliciting comments on specific aspects of the information collection that is summarized in this document. The ICR and accompanying material are available in the docket for public review and comment.

DATES: Comments must be received on or before April 27, 2026.

ADDRESSES: Submit your comments, identified by docket identification (ID) number Docket ID No. EPA-HQ-OPPT-2025-3955, online at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Sleasman, Katherine, Office of Mission Critical Operations (Mail Code 7602M), Office of Chemical Safety and Pollution Prevention, Environmental Protection Agency, 1200 Pennsylvania Ave., NW, Washington, DC 20460-0001; telephone number: 202-566-1204; email address: sleasman.katherine@epa.gov.

For general information contact: The TSCA Assistance Information Service Hotline, Goodwill of the Finger Lakes, 422 South Clinton Ave., Rochester, NY 14620; telephone number: (202) 554-1404; email address: TSCA-Hotline@epa.gov

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Confidential Business Information Claims under the Toxic Substances Control Act (TSCA).

EPA ICR No.: 2706.04.

OMB Control No.: 2070-0223.

ICR Status: This ICR is currently approved through August 31, 2026. Under the PRA, an agency may not conduct or sponsor, and a person is not required to respond to a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: EPA is renewing the information collection concerning the assertion and maintenance of claims of business confidentiality (also known as Confidential Business Information or “CBI”) under the Toxic Substances Control Act (TSCA), 15 U.S.C. 2601, et seq. The Frank R. Lautenberg Chemical Safety for the 21st Century Act, Public Law 114-182 referred to in this Notice as “Lautenberg”), made significant amendments to TSCA including new provisions governing the assertion of CBI claims and requirements concerning Agency review and treatment of confidentiality claims. Among the changes to TSCA are new provisions on EPA review, submitter maintenance, time limitations for CBI claims, and an option to extend confidentiality claims for up to 10 additional years. 40 CFR 703 specifies Agency procedures for reviewing and communicating with TSCA submitters about confidentiality claims, including requirements for submitters to maintain contact information, procedures EPA will use to provide notices to submitters concerning their claims, and the manner in which EPA will notify submitters concerning the impending expiration of certain claims.

The ICR, which is available in the docket along with other related materials, provides a detailed explanation of the collection activities and the burden estimate that is only briefly summarized here:

Form number(s): PFN-7710-56, 7710-25, 7710-056, 6300-07, 9600-010, 9600-011, 9600-012, 9600-013, 9600-014, 9600-015, 9600-030, 9600-031, 9600-032, 9600-034, 9600-035, 9600-036, 9600-049, and 9600-060.

Respondents/affected entities: Entities potentially affected by this ICR include North American Industrial Classification System (NAICS) codes identified in question 12 of the ICR.

Respondent's obligation to respond: Mandatory, as per 15 U.S.C. 2713 and 40 CFR 703.

Estimated number of potential respondents: 1,100.

Frequency of response: On occasion.

Total estimated average number of responses for each respondent: 2.

Total estimated burden: 1,160 hours (per year). Burden is defined at 5 CFR 1320.3(b).

Total estimated costs: $53,050.10 (per year) and includes $0 annualized capital investment or maintenance and operational costs.

III. Are there changes in the estimates from the last approval?

There is a decrease of 709 hours in the total estimated respondent burden compared with that identified in the ICR currently approved by OMB. This decrease reflects EPA's successful implementation of the Lautenberg provisions governing the assertion of CBI claims through the finalization of the Confidential Business Information Claims Under the Toxic Substances Control Act (TSCA) rule published on June 7, 2023 (88 FR 37155 (8223-02-OCSPP)) which amended and reorganized requirements concerning Agency review and treatment of confidentiality claims. This information collection also accounts for provisions that allow for submitters the opportunity to request an extension of CBI claims and for EPA to review time limitations for CBI claims and extension of confidentiality claims for up to 10 additional years. This change is an adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: February 21, 2026.
Douglas M. Troutman,
Assistant Administrator, Office of Chemical Safety and Pollution Prevention.

[FR Doc. 2026-03763 Filed 2-24-26; 8:45 am]

BILLING CODE 6560-50-P